DEPARTMENT OF TRANSPORTATION

Federal Transit Administration

[Docket No. FTA-2014-0009]

National Transit Database: Safety Information Collection

AGENCY: Federal Transit Administration, DOT.

ACTION: Final Guidance to the Safety & Security Module in the National Transit Database (NTD) Reporting Manual for Safety Information Collection.

SUMMARY: This notice conveys the Federal Transit Administration's (FTA) response to comments received regarding proposed revisions to the Safety & Security Module in the National Transit Database (NTD) Reporting Manual for Safety Information Collection.

DATES: Effective Dates: The revisions to the NTD Reporting Manual Safety & Security Module will become effective for the 2015 calendar year reporting cycle.

FOR FURTHER INFORMATION CONTACT: Keith R. Gates, National Transit Database Program Manager, (202) 366-1794, Office of Budget and Policy, Federal Transit Administration, U.S. Department of Transportation, 1200 New Jersey Avenue SE., East Building, Washington, DC 20590 or email: keith.gates@dot.gov.

SUPPLEMENTARY INFORMATION

I. Overview

FTA is updating the Safety & Security Module in the National Transit Database Reporting Manual in order to better align NTD safety data collection with data that is collected in the State Safety Oversight (SSO) program Rail Transit Event Database.

On August 21, 2014, FTA issued a notice of request for comments for proposed revisions of the National Transit Database Safety Information Collection, in the Federal Register (79 FR 49557, http://www.gpo.gov/fdsys/pkg/FR-2014-08-21/pdf/2014-19787.pdf). The comment period closed on October 20, 2014. FTA received a total of 37 comments from 12 stakeholders, including 10 public transportation providers, one trade association, and one individual. This notice addresses comments received and explains the revisions FTA is making to the NTD Reporting Manual. An overview of the comments and the FTA responses are provided below.

II. Response to Comments

Commenters recommended that both FTA and the SSO agencies should use the same database and that reports sent to the SSO, FTA, and the Federal Railroad Administration (FRA) should be collected and maintained on one standard reporting form that meets the needs of all agencies then disseminated to other agencies as required from the assigned federal agency.

While FTA notes the revisions we propose are meant to be a step in that direction, the primary motive for the revisions will align the NTD reporting thresholds and definitions with those of the SSO Program database, allowing the NTD and the SSO Program to share reports and simplify reporting requirements. Additionally, FRA's regulatory responsibilities have historically differed from those of FTA. FTA also received comments that safety professionals cannot find statistics that are based on data provided to the NTD and the SSO Rail Transit Event Database. These commenters questioned FTA's need for collecting more data and asserted that FTA does not do anything visible with the data it collects. The NTD produces a monthly time series of safety data that is used extensively by the rail transit industry. The FTA has new safety authority pursuant to MAP-21, and as a result its Office of Transit Safety and Oversight (TSO) now has additional staff and resources that is developing a more active program going forward. In the future, we will use the data collected to produce regular products and reports for use by the safety community.

1. Reportable Event (clarification)

Incidents reported to the NTD and the SSO Rail Transit Event Database will be called “events.” FTA suggested this change because other uses of the term “incident” are defined as an occurrence that is less severe than an accident or imply a security event. “Event” in this case is intended to include planned and unplanned events that are required to be reported to the NTD. This change is necessary to provide better alignment with nomenclature used by other transportation modes, and to provide clarity during data analysis conducted to identify safety trends.

Comment. One commenter disagreed with the “events” classification and stated that there would continue to be room for confusion with FRA's definition of “incident.”

FTA Response. FTA is primarily concerned with using terminology that is compatible with usage in the SSO Program. “Event” is the blanket term for accidents and other incidents that are not accidental (such as suicides). Since the NTD also collects information on security events, and such usage is compatible with the Department of Homeland Security (DHS) definition, FTA intends to proceed with this proposed revision.

2. Change in Location Criteria

The NTD currently includes events that are “related to or affect revenue service.” Consistent with data reported to the SSO Program, FTA proposed to revise these applicability criteria to “an event occurring on transit right-of-way, in a transit revenue facility, in a transit maintenance facility, or involving a transit revenue vehicle, excluding occupational safety events occurring in administrative buildings.” Application of these new criteria would mean that recipients will no longer report events at bus stops that are not on property owned or controlled by the agency, unless the event involves a transit vehicle, or boarding/alighting from a transit vehicle.

Comment. FTA received eight comments to the proposed revision. Commenters expressed concern that changing “affecting revenue service standard” to a “location-based standard” would include a number of occupational safety events that are normally reported to the Occupational Safety & Health Administration (OSHA). Many commenters noted that these events are already reported to OSHA, and that this proposed revision would require agencies to file multiple reports on these incidents. Commenters also noted, correctly, that the new policy would include other occupational safety events on transit property.

FTA Response. FTA notes the proposed revision would specifically exclude “occupational safety events occurring in administrative buildings.” FTA further notes occupational safety events are reported by phoning the local OSHA office within 24 hours of the event, and only the most serious injuries are reported. In addition, telephone reporting on this time frame does not result in particularly reliable data, and therefore, OSHA-reported data does not meet FTA's reliability standards. Furthermore, OSHA data are not made readily available to FTA. For these reasons, we have adopted the proposed revision. In response to comments, FTA has updated the standard to exclude other types of real property in addition to administrative buildings. In particular, non-transit property owned by municipalities or authorities that also operate transit systems will be excluded.

3. Evacuations

FTA proposed to revise the definition of evacuation to include patron/passenger self-evacuations and evacuations for service or maintenance-related issues when passengers are evacuated to locations where they potentially could be exposed to hazardous situations, such as a rail right-of-way, or a highway shoulder lane. These events will require a major event report and are consistent with data reported to the SSO Program.

Comment. FTA received four comments to the proposed revision. Three commenters were opposed to the extension of the evacuation reporting to all revenue vehicles, making convincing arguments that bus evacuations were not sufficiently hazardous to justify a major safety report. The remaining commenter stated that it is difficult to capture data on self-evacuations.

FTA Response. FTA concurs with these comments and only will require reporting of evacuations on rail vehicles and of passenger facilities. The revisions will expand evacuation reporting criteria for rail vehicles from evacuations due to life-threatening situations, to any evacuation to a potentially hazardous location. Additionally, FTA understands it may be difficult to capture data on self-evacuations, especially where evacuations are not managed by transit personnel, but will still require that the agency do its best to submit an accurate report.

4. Derailments

FTA proposed to expand the mandatory reporting of derailments to include yard derailments. Yard derailments will be reportable regardless of injuries, fatalities, or property damage.

Comment. FTA received five comments on this proposal. Commenters suggested that derailments of service equipment in maintenance yards should not be reportable.

FTA Response. The FTA understands that derailments of service equipment are rare, however, the agency would like to know when these derailments occur in an effort to improve the safety of transit agency operations and transit agency employees. Therefore, FTA is implementing the revision as proposed and derailments of service equipment in maintenance yards will be reported.

5. Collisions at Grade Crossings

FTA proposed to make all collisions at grade crossings reportable to the NTD in order to improve event reporting consistency. Transit agencies are already required to report and investigate these events under the existing SSO Program.

Comment. FTA received three comments to the proposed revision. Commenters requested additional clarification of what constitutes a grade crossing and what “all collisions” mean.

FTA Response. FTA defines “all” to mean any vehicular collision, even if the vehicles are not operated by a transit agency. It includes collisions involving pedestrians and bicyclists. “Grade Crossing” is defined as any place where a rail guideway used for transit operations is crossed at grade by a road or path. This reporting requirement will ensure that the NTD has reports on all incidents reported to the SSO. We realize that the elimination of damage and injury thresholds will result in some additional reports beyond what will be reported to the SSO Program, however, collection of minor event data will inform FTA safety specialists of potential elevated safety risk levels.

6. Collision With an Individual on a Rail Right-of-Way

FTA proposed to change the NTD thresholds to capture all rail collisions with individuals, regardless of injuries or fatalities, as collected in the SSO Program. Collisions with individuals that do not result in an injury would be reportable to the NTD.

Comment. FTA received two comments to the proposed revision. Commenters stated that there needs to be a minimum train speed to eliminate unnecessary reporting events where someone walks/falls into the side of a train and also suggested that changes be addressed in FTA's upcoming safety rulemakings.

FTA Response. FTA will modify the requirement so that only events involving moving trains are reportable.

7. Rail to Rail Collisions

FTA proposed to require an NTD event report for every event involving a collision between rail vehicles. This would extend the existing SSO threshold to the NTD to support improvements in data quality and reporting. Transit agencies are already required to report and investigate these events under the existing SSO Program. This category is not intended to capture normal connection of vehicles.

Comment. FTA received one comment to the proposed revision. The commenter noted that FTA currently collects the proposed information through the SSO Program and FTA should take into consideration that agencies are double reporting.

FTA Response. This requirement will ensure that the NTD has reports for all incidents reported to the SSO Program. To reduce over reporting, FTA will clearly define what “bump coupling” means as part of the guidance for reporting this data.

8. Addition of “Tow-Away”

FTA proposed to add a “tow-away” checkbox to the Reportable Incident Report form (S&S-40) to make vehicle event reporting compatible with the accident reporting threshold used by the Federal Motor Carrier Safety Administration.

Comment. FTA received two comments to the proposed revision. Commenters questioned if the reporting requirement would only apply to tow-aways resulting from accidents that caused disabling damage to the motor vehicle and if it would cover driver-requested tows even though the event does not meet the FTA criteria of “disabling damage.”

FTA Response. FTA will provide guidance in the reporting manual to clarify that this requirement will only apply to vehicles that are not safe to operate.

9. Revision to Non-Rail “Other Motor Vehicle” and “Collision Event” Screens

FTA proposed to add selections for “other motor vehicle type” to improve the ability of FTA and transit agencies to conduct trend analysis of non-rail vehicle collisions. New selections will include: Collision with an automobile, moped, scooter, motorcycle, charter bus, or school bus as a collision with a Motor Vehicle; collision with another agency's transit vehicle as a collision with a Motor Vehicle; and collision with another of your transit agency's vehicles as a collision with a transit vehicle.

FTA Response. FTA did not receive any comments to this proposed revision and the revision will be adopted as proposed.

10. Revision to Non-Rail “Type of Fire” Categories on Fire Event Detail Screens

FTA proposed to add selections for “type of fire” to the non-rail fire event detail screens to provide better national-level information for vehicle fire prevention and mitigation.

Comment. FTA received two comments to the proposed revision. Commenters indicated that “type of fire” was often difficult to ascertain and could only be identified after a lengthy investigation.

FTA Response. The NTD allows for event reports to be edited months after being reported, thus FTA does not consider this problematic for reporters and will adopt the proposed revision as stated.

11. Collect New Data on Geographic Location of Events

FTA proposed to add fields for latitude and longitude of events. This change is necessary for FTA to participate in the U.S. DOT's Open Data initiative that will provide for the creation and maintenance of high-quality, nationwide transportation data in the public domain.

Comments. FTA received nine comments to the proposed revision. Commenters expressed concern that they are not equipped to provide the proposed information.

FTA Response. FTA will make this new requirement optional for the first year to allow time for reporters to develop procedures for determining the latitude and longitude for incidents. FTA also will provide functionality in the online forms for converting street addresses to latitude and longitude automatically.

Although there is a potential increase in the reporting burden for some data elements affected by these revisions, there also are some potential reductions in the reporting burden. FTA will monitor these and generate a revised reporting burden estimate for our upcoming Paperwork Reduction Act application. This application will be completed in 2015. At this time the reporting burden is expected to be neutral and to remain within the currently approved Paperwork Reduction Act collection.

Therese W. McMillan,
Acting Administrator, Federal Transit Administration.

[FR Doc. 2015-01479 Filed 1-27-15; 8:45 am]

BILLING CODE P